DEPARTMENT OF LABOR

Employment and Training Administration

[TA-W-41,542]

Fashion Sportswear Corp., Fall River, MA; Notice of Termination of Investigation

Pursuant to section 221 of the Trade Act of 1974, an investigation was initiated on May 13, 2002 in response to a worker petition, which was filed on behalf of workers at Fashion Sportswear Corp., Fall River, Massachusetts.

Two of three workers did not complete their contact information (name, address, telephone number, and date of separation), as required in the TAA petition form. The petition is therefore, deemed invalid. Consequently, the investigation has been terminated.

Signed in Washington, DC this 29th day of May, 2002.
Linda G. Poole,
Certifying Officer, Division of Trade Adjustment Assistance.

[FR Doc. 02-15452 Filed 6-18-02; 8:45 am]

BILLING CODE 4510-30-P